DEPARTMENT OF THE TREASURY

Office of Foreign Assets Control

31 CFR Part 570

Publication of Libyan Sanctions Regulations Web General Licenses 5, 6, and 8A.

AGENCY: Office of Foreign Assets Control, Treasury.

ACTION: Publication of Web General Licenses.

SUMMARY: The Department of the Treasury's Office of Foreign Assets Control (OFAC) is publishing three general licenses (GLs) issued pursuant to the Libyan Sanctions program: GLs 5, 6, and 8A, each of which was previously made available on OFAC's website.

DATES: GL 5 was issued on April 26, 2011. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On April 26, 2011, OFAC issued GL 5 to authorize certain transactions otherwise prohibited by Executive Order (E.O.) 13566 of February 25, 2011, “Blocking Property and Prohibiting Certain Transactions Related to Libya” (76 FR 11315, March 2, 2011). On July 1, 2011, OFAC incorporated the prohibitions of E.O. 13566 into the Libyan Sanctions Regulations, 31 CFR part 570 (LSR). On August 19, 2011, OFAC issued GL 6 to authorize certain transactions otherwise prohibited by the LSR or E.O. 13566. On September 23, 2011, OFAC issued GL 8A to authorize certain transactions otherwise prohibited by the LSR. Each GL was made available on its website (www.treas.gov/ofac) when it was issued.

On December 16, 2011, OFAC issued GL 11 to unblock all property and interests in property of the Government of Libya, with which transactions were authorized pursuant to GL 8A. On August 8, 2012, the interim Transitional National Council of Libya, the internationally recognized Libyan government with which transactions were authorized pursuant to GLs 5 and 6, dissolved and transferred power to the Libyan General National Congress. OFAC is revoking GLs 5, 6, and 8A and will remove the GLs from OFAC's website. The text of these GLs is provided below.

Office of Foreign Assets Control Executive Order 13566 of February 25, 2011 Blocking Property and Prohibiting Certain Transactions Related to Libya

GENERAL LICENSE NO. 5

Authorizing Transactions Related to Certain Oil, Gas, or Petroleum Products Exported From Libya

U.S. persons are authorized to engage in transactions with or involving Qatar Petroleum or the Vitol group of companies related to oil, gas, or petroleum products exported from Libya under the auspices of the Transitional National Council of Libya (the “TNC”), provided that neither the Government of Libya nor any other person whose property and interests in property are blocked—with the exception of Arab Gulf Oil Company (“Agoco”), as an entity operating in areas controlled by the TNC and under the auspices of the TNC—receives any benefit from such transactions.

U.S. persons purchasing oil, gas, or petroleum products from Qatar Petroleum or the Vitol group of companies pursuant to this general license are required to submit a report to the Office of Foreign Assets Control detailing such transactions within 30 days of the transactions, including information describing due diligence mechanisms to verify that neither the Government of Libya nor any other person whose property and interests in property are blocked, with the exception of Agoco, is receiving any benefits from such transactions. Reports should be submitted to the attention of the Licensing Division, Office of Foreign Assets Control, U.S. Department of the Treasury, 1500 Pennsylvania Avenue NW, Washington, DC 20220.

Barbara C. Hammerle,

Acting Director, Office of Foreign Assets Control

Dated: April 26, 2011.

OFFICE OF FOREIGN ASSETS CONTROL

Libyan Sanctions Regulations

31 CFR Part 570

Executive Order 13566 of February 25, 2011

Blocking Property and Prohibiting Certain Transactions Related to Libya

GENERAL LICENSE NO. 6

Guidance and General License With Respect to the Transitional National Council of Libya as the Legitimate Governing Authority for Libya

On February 25, 2011, the President issued Executive Order 13566 (“E.O. 13566”) in response to the violent actions of Colonel Muammar Qadhafi and his government against the people of Libya, as well as to protect Libyan state assets from misappropriation. E.O. 13566 blocks all property and interests in property of, inter alia, the Government of Libya, its agencies, instrumentalities, and controlled entities, and the Central Bank of Libya, as well as all property in which Colonel Qadhafi, certain members of his family, and certain senior members of his regime have an interest, unless otherwise authorized. On July 15, 2011, the Secretary of State announced that, until an interim authority is in place, the United States recognizes the Transitional National Council of Libya as the legitimate governing authority for Libya. In light of this recognition, E.O. 13566's prohibitions now technically encompass the Transitional National Council of Libya, its agencies, instrumentalities, and controlled entities (the “TNC”), in addition to the Qadhafi regime, including its agencies, instrumentalities, and controlled entities. To address this, the Office of Foreign Assets Control is issuing the following general license to broadly authorize transactions with the TNC, as follows:

(a) Effective July 15, 2011, all transactions involving the TNC are authorized, subject to the following limitations:

(1) The transactions do not involve any other person whose property and interests in property are blocked; and

(2) All property and interests in property blocked pursuant to E.O. 13566 or the Libyan Sanctions Regulations as of August 19,2011, remain blocked.

(b) Except to the extent otherwise provided, all property and interests in property of the Qadhafi regime and persons who are included on OFAC's list of Specially Designated Nationals and Blocked Persons (the “SDN List”) remain blocked, and all transactions involving the Qadhafi regime and persons who are included on the SDN List, including the making of any contribution or provision of funds, goods, or services by them, to them, or for their benefit, continue to be prohibited.

Barbara C. Hammerle,

Acting Director, Office of Foreign Assets Control

Dated: August 19, 2011.

OFFICE OF FOREIGN ASSETS CONTROl

Libyan Sanctions Regulations

31 CFR Part 570

Executive Order 13566 of February 25, 2011

Blocking Property and Prohibiting Certain Transactions Related to Libya

GENERAL LICENSE NO. 8A

General License With Respect to the Government of Libya, Its Agencies, Instrumentalities, and Controlled Entities, and the Central Bank of Libya

(a) General License No.8, dated September 19, 2011, is replaced and superseded in its entirety by this General License No. 8A.

(b) Effective September 19, 2011, all transactions involving the Government of Libya, its agencies, instrumentalities, and controlled entities, and the Central Bank of Libya are authorized, subject to the following limitations:

(1) All funds, including cash, securities, bank accounts, and investment accounts, and precious metals blocked pursuant to Executive Order 13566 of February 25, 2011, or the Libyan Sanctions Regulations, 31 CFR part 570, as of September 19, 2011, remain blocked, except as provided in General License No. 7A; and

(2) The transactions do not involve any persons listed on the Annex to this general license.

(c) Effective September 19, 2011, the authorization in paragraph (b) of this general license supersedes General License No. 1B.

Note to General License No. 8A: Subject to the limitations set forth in subparagraphs (1) and (2), paragraph (b) of this general license authorizes any transaction involving contracts that have been blocked pursuant to Executive Order 13566 because of an interest by the Government of Libya.

Adam J. Szubin,

Director, Office of Foreign Assets Control

Dated: September 23, 2011.

Annex to General License No. 8A

1. AL BAGHDADI, Ali Al-Mahmoudi (a.k.a. MAHMUDI, Baghdadi); DOB 1950; POB Al Jamil, Libya; Prime Minister (individual) [LIBYA2]

2. AL-SENUSSI, Abduliah (a.k.a. SENUSSI, Abdullah); DOB 1949; POB Sudan; Director of Military Intelligence; Colonel (individual) [LIBYA2]

3. DORDA, Abu Zaid (a.k.a. DORDA, Abouzid Omar; a.k.a. DORDA, Abu Zayd Umar; a.k.a. DORDA, Bu Zaid; a.k.a. DOURDA, Abu Zaid Omar; a.k.a. DURDA, Abu Zeid Omar); DOB 4 Apr 1944; Director of the External Security Organization (individual) [LIBYA2]

4. FARKASH, Safia (a.k.a. FARKASH AL-BARASSI, Safia); DOB 1952; POB Al Bayda, Libya (individual) [LIBYA2]

5. GADDAFI, Ayesha (a.k.a. AL-GADDAFI, Ayesha; a.k.a. AL-QADHAFI, Aisha; a.k.a. ELKADDAFI, Aisha; a.k.a. EL-QADDAFI, Aisha; a.k.a. GADDAFI, Ayesha; a.k.a. GADHAFI, Aisha; a.k.a. GHADAFFI, Aisha; a.k.a. GHATHAFI, Aisha; a.k.a. GHATHAFI, Aisha Muammer; a.k.a. QADDAFI, Aisha; a.k.a. QADHAFI, Aisha); DOB 1977; alt. DOB 1976 (individual) [LIBYA2]

6. GADDAFI, Hannibal (a.k.a. AL-GADDAFI, Hannibal; a.k.a. AL-QADHAFI, Hannibal; a.k.a. ELKADDAFI, Hannibal; a.k.a. EL-QADDAFI, Hannibal; a.k.a. GADDAFI, Hannibal Muammar; a.k.a. GHADAFFI, Hannibal; a.k.a. GHATHAFI, Hannibal; a.k.a. QADDAFI, Hannibal; a.k.a. QADHAFI, Hannibal Muammar); DOB 20 Sep 1975; alt. DOB 1977; POB Tripoli, Libya; Passport B/002210 (Libya) (individual) [LIBYA2]

7. GADDAFI, Muhammad (a.k.a. AL-GADDAFI, Muhammad; a.k.a. AL-QADHAFI, Mohammed; a.k.a. ELKADDAFI, Muhammad; a.k.a. EL-QADDAFI, Muhammad; a.k.a. GADHAFFI, Mohammad Moammar; a.k.a. GADHAFI, Mohammed; a.k.a. GHATHAFI, Muhammad; a.k.a. QADDAFI, Muhammad; a.k.a. QADHAFI, Mohammed Muammar); DOB 1970; POB Tripoli, Libya (individual) [LIBYA2]

8. GADDAFI, Mutassim (a.k.a. AL-GADDAFI, Mutassim; a.k.a. AL-QADHAFI, Mutassim; a.k.a. ELKADDAFI, Mutassim; a.k.a. EL-QADDAFI, Mutassim; a.k.a. GADDAFI, Mutassim; a.k.a. GADHAFI, Mutassim Billah; a.k.a. GHADAFFI, Mutassim; a.k.a. GHATHAFI, Mutassim; a.k.a. QADDAFI, Mutassim; a.k.a. QADHAFI, Mutassim); DOB 1975 (individual) [LIBYA2]

9. GADDAFI, Saadi (a.k.a. AL-GADDAFI, Saadi; a.k.a. AL-QADHAFI, Sa'adi Mu'ammar; a.k.a. ELKADDAFI, Saadi; a.k.a. EL-QADDAFI, Saadi; a.k.a. GADHAFI, Saadi; a.k.a. GHATHAFI, Saadi; a.k.a. QADDAFI, Saadi; a.k.a. QADHAFI, Saadi); DOB 27 May 1973; alt. DOB 25 May 1973; POB Tripoli, Libya; Passport 010433 (Libya); alt. Passport 014797 (Libya) (individual) [LIBYA2]

10. GADDAFI, Saif Al-Arab (a.k.a. AL-GADDAFI, Saif Al-Arab; a.k.a. AL-QADHAFI, Saif Al-Arab; a.k.a. ELKADDAFI, Saif Al-Arab; a.k.a. EL-QADDAFI, Saif Al-Arab; a.k.a. GADDAFI, Seif Al-Arab; a.k.a. GADHAFI, Saif Al-Arab; a.k.a. GHATHAFI, Saif Al-Arab; a.k.a. QADDAFI, Saif Al-Arab; a.k.a. QADHAFI, Saif Al-Arab); DOB 1979; alt. DOB 1982; alt. DOB 1983; POB Tripoli, Libya (individual) [LIBYA2]

11. JABIR, Abu Bakr Yunis (a.k.a. JABER, Abu Bakr Yunis); DOB 1952; POB Jalo, Libya; Defense Minister; Major General (individual) [LIBYA2]

12. KHALED, Tohami (a.k.a. AL-TUHAMI, Khaled; a.k.a. KHALED, Al-Tohamy; a.k.a. KHALED, al-Tuhami); DOB 1946; POB Genzur, Libya; General; Director of the Internal Security Office (individual) [LIBYA2]

13. MATUQ, Matuq Mohammed (a.k.a. MATOUK, Matouk Mohamed; a.k.a. MATUQ, Matuq Muhammad); DOB 1956; POB Khoms, Libya; Secretary of the General People's Committee for Public Works (individual) [LIBYA2]

14. QADHAFI, Khamis (a.k.a. AL-GADDAFI, Khamis; a.k.a. AL-QADHAFI; a.k.a. AL-QADHAFI, Khamis; a.k.a. ELKADDAFI, Khamis; a.k.a. EL-QADDAFI, Khamis; a.k.a. GADDAFI, Khamis; a.k.a. GADHAFI, Khamis; a.k.a. GHADAFFI, Khamis; a.k.a. GHATHAFI, Khamis; a.k.a. QADDAFI, Khamis); DOB 1980 (individual) [LIBYA2]

15. QADHAFI, Muammar (a.k.a. AL-GADDAFI, Muammar; a.k.a. AL-QADHAFI, Muammar; a.k.a. AL-QADHAFI, Muammar Abu Minyar; a.k.a. ELKADDAFI, Muammar; a.k.a. EL-QADDAFI, Muammar; a.k.a. GADDAFI, Mu'ammar; a.k.a. GADDAFI, Muammar; a.k.a. GADHAFI, Muammar; a.k.a. GHADAFFI, Muammar Muhammad; a.k.a. GHATHAFI, Muammar; a.k.a. QADDAFI, Muammar); DOB 1942; POB Sirte, Libya (individual) [LIBYA2]

16. QADHAFI, Saif al-Islam (a.k.a. AL-GADDAFI, Saif al-Islam; a.k.a. AL-QADHAFI, Saif al-Islam; a.k.a. ELKADDAFI, Saif al-Islam; a.k.a. EL-QADDAFI, Seif al-Islam; a.k.a. GADDAFI, Saif al-Islam; a.k.a. GADHAFI, Saif al-Islam; a.k.a. GHADAFFI, Saif al-Islam; a.k.a. GHATHAFI, Saif al-Islam; a.k.a. QADDAFI, Saif al-Islam); DOB 25 Jun 1972; POB Tripoli, Libya (individual) [LIBYA2]

17. SALEH, Bachir (a.k.a. BASHIR, Bashir Saleh; a.k.a. SALEH, Bashir); DOB 1946; POB Traghen, Libya; Head of Cabinet of Leader Muammar Gaddafi; Chief of Staff; Chairman of Libya Africa Investment Portfolio (individual) [LIBYA2]

18. ZLITNI, Abdulhafid (a.k.a. AL-ZULAYTINI, Abd-Al-Hafid Mahmud; a.k.a. ZLEITNI, Abdel-Hafez; a.k.a. ZLITNI, Abdelhafidh; a.k.a. ZLITNI, Abdul Hafid; a.k.a. ZLITNI, Abdul Hafiz; a.k.a. ZLITNI, Abdulhafid Mahmoud); DOB 1938; POB Tripoli, Libya; Secretary of the General People's Committee for Finance and Planning; Secretary of the General People's Committee for Planning and Finance; Finance Minister; Director and Deputy Chairman of the Libyan Investment Authority (individual) [LIBYA2]

19. WAATASEMU CHARITY ASSOCIATION, Omar Almukhtar Street, Tripoli, Libya; Email Address info@waatasemu.org; website http://waatasemu.org.ly: Telephone No. (218) 21 273343326; Fax No. (218) 21 253343328 [LIBYA2]

20. GADDAFI INTERNATIONAL CHARITY AND DEVELOPMENT FOUNDATION (a.k.a. GADDAFI INTERNATIONAL FOUNDATION FOR CHARITY ORGANISATIONS), Hay Elandadlus—Jian St., P.O. Box 1101, Tripoli, Libya; 22, Rue Henri-Mussard, Geneva 1208, Switzerland; Email Address info@gicdf.org; Registration ID CH-660.0.699.004-7 (Switzerland); website www.gicdf.org: Telephone No. (218) (0)214778301; Telephone No. (022) 7363030; Fax No. (218) (0)214778766; Fax No. (022) 7363196 [LIBYA2]

Andrea M. Gacki,
Director, Office of Foreign Assets Control.

[FR Doc. 2023-07698 Filed 4-11-23; 8:45 am]

BILLING CODE 4810-AL-P